Proclamation 7289 of April 8, 2000

National Former Prisoner of War Recognition Day, 2000

By the President of the United States of America

A Proclamation

As we stand at the dawn of a new century, we reflect with pride on all that our Nation has accomplished in the 224 years since we first declared our independence. Today we enjoy unprecedented peace and prosperity, and, as it has for generations, America shines as a beacon of democracy, freedom, and opportunity for peoples around the world.

Yet the blessings we rejoice in today were won at great cost. Millions of young Americans who stepped forward in times of crisis or conflict to defend our Nation and uphold our values around the world sacrificed their freedom and lost their lives. The century just past will forever be known as the American century, not only because of our economic strength, military might, and technological prowess, but also because of the character, determination, and indomitable spirit our people demonstrated time and again.

That character and spirit have never been more evident than when Americans have been held captive as prisoners of war. Suffering hunger, fear, isolation, and uncertainty, stripped of their freedom and often subjected to physical and psychological torture, American POWs nonetheless continued to serve our Nation with honor, dignity, and remarkable courage. For many, the long, agonizing days stretched into years, and the loss of freedom and the cruel separation from family, home, and friends left scars that the passage of time can never erase.

We owe a profound debt of gratitude to these heroes who stood face to face with the forces of tyranny and oppression, true to our country and to the spirit of freedom even in captivity. We owe a debt as well to their families, whose faith and fortitude have been an unceasing source of strength to our Nation in many of our darkest hours. As we observe this special day for the first time in this new century, let us remember and honor the sacrifices of America's prisoners of war and their families; and let us keep faith with them by remaining resolute in defending liberty and securing a just and peaceful world for the generations to come.

NOW, THEREFORE, I, WILLIAM J. CLINTON, President of the United States of America, by virtue of the authority vested in me by the Constitution and laws of the United States, do hereby proclaim April 9, 2000, as National Former Prisoner of War Recognition Day. I call upon all Americans to join me in remembering former American prisoners of war who suffered the hardships of enemy captivity. I also call upon Federal, State, and local government officials and private organizations to observe this day with appropriate ceremonies, programs, and activities.

IN WITNESS WHEREOF, I have hereunto set my hand this eighth day of April, in the year of our Lord two thousand, and of the Independence of the United States of America the two hundred and twenty-fourth.

wj

[FR Doc. 00-9331

Filed 4-12-00; 8:45 am]

Billing code 3195-01-P